DEPARTMENT OF COMMERCE

National Oceanic and Atmospheric Administration

[I.D. 070505C]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Administrator, Northeast Region, NMFS (Regional Administrator) has made a preliminary determination that the subject Exempted Fishing Permit (EFP) application contains all the required information and warrants further consideration. The Regional Administrator has also made a preliminary determination that the activities authorized under the EFP would be consistent with the goals and objectives of the Atlantic Sea Scallop Fishery Management Plan (FMP). However, further review and consultation may be necessary before a final determination is made to issue the EFP. Therefore, NMFS announces that the Regional Administrator proposes to issue an EFP that would allow one or more vessels to conduct fishing operations that are otherwise restricted by the regulations governing the fisheries of the Northeastern United States. The EFP would allow for exemptions from the Atlantic sea scallop possession and landings restrictions specified at 50 CFR 648.53(a). The experiment proposes to conduct underwater videotaping of sea turtle interactions with scallop dredge gear. The EFP would allow these exemptions for one or more commercial vessels for a total of 20 days of fishing. All experimental work would be monitored by Coonamessett Farm, Inc., (CFI) personnel.

Regulations under the Magnuson-Stevens Fishery Conservation and Management Act require publication of this notification to provide interested parties the opportunity to comment on applications for proposed EFPs.

DATES: Comments on this document must be received on or before July 25, 2005.

ADDRESSES: Comments should be submitted by any of the following methods:

• Mail: Patricia A. Kurkul, Regional Administrator, NMFS, Northeast Regional Office, One Blackburn Drive, Gloucester, MA 01930. Mark the outside of the envelope, “Comments on CFI EFP Proposal for Sea Turtle/Scallop Dredge Interaction Study.”

• Fax: (978) 281-9135.

• E-mail: DA5.89@noaa.gov.

FOR FURTHER INFORMATION CONTACT: Don Frei, Fishery Management Specialist, phone: 978-281-9221, fax: 978-281-9135.

SUPPLEMENTARY INFORMATION: A request for an EFP was submitted by CFI on May 9, 2005, to conduct research work that is being funded through the Northeast Fisheries Science Center (NEFSC) for a study to collect underwater video to gather additional information about sea turtle behavior in and around scallop dredge gear equipped with a chain mat. The project would investigate sea turtle behavior around scallop dredges and in areas where scalloping has recently occurred. Researchers would try to attract sea turtles using viscera and fishing activity to observe turtle behavior relative to the scallop dredge.

The commercial vessel involved in the project would fish one 13-ft (4 m) scallop dredge outfitted with self-contained video cameras; one camera would be mounted in a forward-looking position, while the other is mounted on the towing warp to look back at the dredge. Tows would be concentrated in one area doing short turnaround tows. The video cameras would also be lowered to examine the scallop dredge path along the bottom as well as the scallop viscera dumping location. The vessel would fish off the coast of New Jersey and the Delmarva Peninsula, where sea turtle interactions are likely. The researcher initially proposed to conduct this research during the period June 15 - October 31, 2005. The study would involve a maximum of 20 days of fishing, with at least six tows conducted each day. The total anticipated scallop catch would be 8,000 lb (3,629 kg), which would be landed and sold. It is anticipated that the catch would be taken in 120-150 tows.

Previous research in this area has shown bycatch to be limited. It is expected that fish bycatch may consist of 5,000 lb (2,268 kg) of little skate, less than 50 lb (23 kg) of monkfish and approximately 300 lb (136 kg) of flatfish. All incidental catch would be returned to the sea. If there are interactions with sea turtles, the sea turtles would be handled in accordance with sea turtle resuscitation regulations at 50 CFR 223.206(d)(1). If any injured sea turtles are encountered, the researchers would arrange for transfer to authorized rehabilitation facilities. Observers from CFI would collect data on each trip.

The possession and landing restrictions for commercial vessels fishing under the General Category scallop vessel permit allow such vessels to harvest and land up to 400 lb (181 kg) of scallops on each trip, with up to one landing per calendar day. In order to improve the success of the research project, CFI has requested an EFP to authorize the commercial vessels involved to land 400 lb (181 kg) for each day that they fish, without requiring the vessel to return to port every day to offload the scallop catch. This would enable the vessel to stay in the vicinity of sea turtles that are encountered.

Authority: 16 U.S.C. 1801 et seq.

Dated: July 5, 2005.
Alan D. Risenhoover
Acting Director, Office of Sustainable Fisheries, National Marine Fisheries Service.

[FR Doc. E5-3611 Filed 7-7-05; 8:45 am]

BILLING CODE 3510-22-S